COMMISSION ON CIVIL RIGHTS

Sunshine Act Meeting Notice

AGENCY: United States Commission on Civil Rights.

ACTION: Notice of Commission public business meeting.

DATES: Friday, July 12, 2024, 10:00 a.m. ET.

ADDRESSES: Meeting to take place virtually and is open to the public via livestream on the Commission's YouTube page: https://www.youtube.com/user/USCCR/videos.

FOR FURTHER INFORMATION CONTACT: Angelia Rorison: 202-376-8371; publicaffairs@usccr.gov.

SUPPLEMENTARY INFORMATION: In accordance with the Government in Sunshine Act (5 U.S.C. 552b), the Commission on Civil Rights is holding a meeting to discuss the Commission's business for the month. This business meeting is open to the public. Computer assisted real-time transcription (CART) will be provided. The web link to access CART (in English) on Friday, July 12, 2024, is https://www.streamtext.net/player?event=USCCR. Please note that CART is text-only translation that occurs in real time during the meeting and is not an exact transcript.

Meeting Agenda

I. Approval of Agenda

II. Business Meeting

A. Presentation by Arkansas Advisory Committee Chair on Released Reports and Memorandum on IDEA Compliance and Implementation in Arkansas Schools

B. Presentation by Nevada Advisory Committee Chair on Released Reports and Memorandum on Teacher and Professional Staff Shortages and Equity in Education in Nevada

C. Discussion and Vote on 2025 USCCR Business Meeting Calendar

D. Discussion and Vote on 2024 Statutory Enforcement Report: The Civil Rights Implications of the Federal Use of Facial Recognition Technology

E. Management and Operations

• Staff Director's Report

III. Adjourn Meeting

Dated: July 3, 2024.
Angelia Rorison,
USCCR Media and Communications Director.

[FR Doc. 2024-14935 Filed 7-2-24; 4:15 pm]

BILLING CODE 6335-01-P